DEPARTMENT OF HEALTH AND HUMAN SERVICES

Centers for Disease Control and Prevention

Disease, Disability, and Injury Prevention and Control Special Emphasis Panel (SEP): Evaluation of Parents Claiming Exemptions to School Entry Immunization Requirements, Program Announcement Number 04091

In accordance with section 10(a)(2) of the Federal Advisory Committee Act (Pub. L. 92-463), the Centers for Disease Control and Prevention (CDC) announces the following meeting:

Name: Disease, Disability, and Injury Prevention and Control Special Emphasis Panel (SEP): Evaluation of Parents Claiming Exemptions to School Entry Immunization Requirements, Program Announcement Number 04091.

Times and Dates: 6 p.m.-7 p.m., June 27, 2004 (Open). 7 p.m.-9 p.m., June 27, 2004 (Closed). 8 a.m.-5 p.m., June 28, 2004 (Closed).

Place: Renaissance Hotels and Resorts, One Hartsfield Centre Parkway, Atlanta, GA 30354, Telephone 404.209.9999.

Status: Portions of the meeting will be closed to the public in accordance with provisions set forth in sSection 552b(c) (4) and (6), Title 5 U.S.C., and the Determination of the Director, Management Analysis and Services Office, CDC, pursuant to Public Law 92-463.

Matters To Be Discussed: The meeting will include the review, discussion, and evaluation of applications received in response to Program Announcement Number 04091.

Contact Person for More Information: Beth Gardner, National Immunization Program, CDC, 1600 Clifton Road, NE., MS-E05, Atlanta, GA 30333, Telephone (404) 639-6101.

The Director, Management Analysis and Services Office, has been delegated the authority to sign Federal Register notices pertaining to announcements of meetings and other committee management activities, for both CDC and the Agency for Toxic Substances and Disease Registry.

Dated: May 3, 2004.
Alvin Hall,
Director, Management Analysis and Services Office, Centers for Disease Control and Prevention.

[FR Doc. 04-10422 Filed 5-6-04; 8:45 am]

BILLING CODE 4163-18-P